DEPARTMENT OF COMMERCE

National Oceanic and Atmospheric Administration

RIN 0648-XA695

Western Pacific Regional Fishery Management Council; Public Meeting

AGENCY: National Marine Fisheries Service (NMFS), National Oceanic and Atmospheric Administration (NOAA), Commerce.

ACTION: Notice of public meeting.

SUMMARY: The Western Pacific Regional Fishery Management Council (Council) will convene a meeting of the Hawaii Members of its Non-Commercial Fisheries Advisory Committee, Hawaii Members of its Advisory Panel, and Hawaii Members of its Bottomfish Advisory Review Board in Honolulu, HI, to provide comments on two items on which the Council is expected to take action at its 152nd Council Meeting to be held between October 19-22.

DATES: The meeting will be held on Wednesday, September 28, 2011 from 10 a.m. to 4 p.m. (see SUPPLEMENTARY INFORMATION for agenda items).

ADDRESSES: The meeting will be held at the Council Office Conference Room, 1164 Bishop St., Suite 1400, Honolulu, HI; telephone: (808) 522-8220.

FOR FURTHER INFORMATION CONTACT: Kitty M. Simonds, Executive Director; telephone: (808) 522-8220.

SUPPLEMENTARY INFORMATION:

Wednesday, September 28, 2011; 10 a.m.

A. Introduction.

B. Recommendations for non-Deep 7 bottomfish management unit species Annual Catch Limit and Accountability Measures.

C. Recommendations on Hawaii Non-Commercial Data Collection.

D. Public Comment.

E. Closure of meeting.

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 8, 2011.
Tracey L. Thompson,
Acting Director, Office of Sustainable Fisheries, National Marine Fisheries Service.

[FR Doc. 2011-23308 Filed 9-12-11; 8:45 am]

BILLING CODE 3510-22-P